ENVIRONMENTAL PROTECTION AGENCY

[FRL-9646-9]

Clean Water Act; Availability of List Decisions

AGENCY: Environmental Protection Agency (EPA).

ACTION: Notice of Availability and Request for Public Comment.

SUMMARY: This action announces the availability of the Environmental Protection Agency's (EPA) proposed decision identifying water quality limited segments and associated pollutants in Oregon to be listed pursuant to section 303(d)(2) of the Clean Water Act (CWA). EPA is proposing to add 1004 water quality limited segments to Oregon's 2010 Section 303(d) list. EPA solicits public comment on these proposed listings. The proposed listings, together with additional information concerning the proposed listings, are available for review on EPA's Web site.

DATES: Comments must be received on or before April 16, 2012.

ADDRESSES: Comments: Comments on the proposed listing action must be sent electronically or by mail to Jill Gable, 303(d) Listing Program, Office of Water and Watersheds; USEPA Region 10; 1200 6th Ave. Suite 900, OWW-134; Seattle, WA 98101; telephone (206) 553-2582, facsimile (206) 553-0165, email gable.jill@epa.gov. Oral comments will not be considered.

Availability for Review: Copies of the proposed decision concerning Oregon's 303(d) list which explain the rationale for EPA's proposed decision can be obtained at EPA Region 10's Web site at: www.epa.gov/region10/notices/oregon303d.html, or by writing or calling Ms. Gable at the above address.

FOR FURTHER INFORMATION CONTACT: Jill Gable at (206) 553-2582 or gable.jill@epa.gov.

SUPPLEMENTARY INFORMATION: Section 303(d) of the Clean Water Act (CWA) (hereinafter referred to as “Section 303(d)”) requires states to identify those waters within their jurisdiction for which effluent limitations are not stringent enough to implement applicable water quality standards, to establish a priority ranking for such waters, and to submit a listing of such waters to EPA (hereinafter referred to as a “303(d) list”).

EPA's Water Quality Planning and Management regulations include requirements for implementation of section 303(d), at 40 CFR 130.7. 40 CFR 130.7(d) requires states to identify water quality limited waters still requiring Total Maximum Daily Loads (TMDLs) every two years. The list of waters still needing TMDLs must also include priority rankings and must identify the waters targeted for TMDL development during the next two years. See 40 CFR 130.7(d).

Section 303(d)(2) also requires that EPA approve or disapprove lists submitted by States. If EPA disapproves a list, EPA must identify waters in the state that do not meet water quality standards. After EPA has identified waters not attaining water quality standards, EPA must issue a public notice seeking comments on the list. See 40 CFR 130.7(d)(2).

On May 24, 2011, the Oregon Department of Environmental Quality (“ODEQ”) submitted Oregon's 2010 Section 303(d) list of water quality limited segments (“WQLSs”) (“Oregon's 2010 303(d) list”), to EPA, as part of the Integrated Report submitted by the state to meet the requirements of sections 303(d), 305(b), and 314 of the CWA. On March 15, 2012, EPA sent a letter to ODEQ, in which EPA approved ODEQ's inclusion of 970 water quality limited segments to Oregon's 303(d) list and ODEQ's removal of 927 water quality limited segments from Oregon's 303(d) list.

In the March 15, 2012 letter to ODEQ, EPA also disapproved Oregon's decisions not to list 1004 water quality limited segments as impaired, including 321 water quality limited segments that Oregon identified as impaired but failed to list on the Section 303(d) list. EPA has identified these additional water quality limited segment for inclusion on the State's 2010 Section 303(d) list. These water quality limited segments and associated pollutants as proposed by EPA are identified in Enclosure 3 of the decision document available at the following Web site link: www.epa.gov/region10/notices/oregon303d.html.

EPA is providing the public the opportunity to review its proposed decision to list 1004 water quality limited segments to Oregon's 2010 Section 303(d) list. EPA will consider and respond to public comments in reaching its final decision on the addition of the referenced water bodies and pollutants identified for inclusion on Oregon's 2010 303(d) list.

Dated: March 2, 2012.
Michael A. Bussell,
Director, Water Division, EPA Region X.

[FR Doc. 2012-6022 Filed 3-14-12; 8:45 am]

BILLING CODE 6560-50-P